DEPARTMENT OF THE INTERIOR

Fish and Wildlife Service

50 CFR Part 17

RIN 1018-AT90

Endangered and Threatened Wildlife and Plants; Critical Habitat for the Perdido Key Beach Mouse, Choctawhatchee Beach Mouse, and St. Andrew Beach Mouse; Correction

AGENCY: Fish and Wildlife Service, Interior.

ACTION: Proposed rule; correction.

SUMMARY: We, the U.S. Fish and Wildlife Service (Service), announce a correction to the proposed rule to revise critical habitat for the endangered Perdido Key beach mouse (Peromyscus polionotus trissyllepsis) and Choctawhatchee beach mouse (Peromyscus polionotus allophrys), and designate critical habitat for the endangered St. Andrew beach mouse (Peromyscus polionotus peninsularis) published in the Federal Register on December 15, 2005. The proposed rule was published with an incorrect electronic mail address for submission of comments.

DATES: We will accept comments from all interested parties until February 13, 2006. We must receive requests for public hearings in writing by January 30, 2006.

FOR FURTHER INFORMATION CONTACT: Field Supervisor, U.S. Fish and Wildlife Service, 1601 Balboa Avenue, Panama City, Florida 32405, (telephone 850-769-0552; facsimile 850-763-2177).

SUPPLEMENTARY INFORMATION: On December 15, 2005, a document entitled “Endangered and Threatened Wildlife and Plants; Critical Habitat for the Perdido Key Beach Mouse, Choctawhatchee Beach Mouse, and St. Andrew Beach Mouse” was published in the Federal Register (70 FR 74426) with an incorrect electronic mail address for submission of comments.

Correction

In the Federal Register of December 15, 2005, on page 74426, in the first column, correct item 3 in the ADDRESSESsection to read: 3. You may send comments by electronic mail (e-mail) to floridabeachmouse@fws.gov.

Dated: December 16, 2005.
Sara Prigan,
Federal Register Liaison Officer.

[FR Doc. E5-7701 Filed 12-21-05; 8:45 am]

BILLING CODE 4310-55-P